DEPARTMENT OF DEFENSE

Office of the Secretary

[Transmittal No. 20-0K]

Arms Sales Notification

AGENCY: Defense Security Cooperation Agency, Department of Defense (DoD).

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(5)(C) arms sales notification is published to fulfill the requirements of section 155 of Public Law 104-164 dated July 21, 1996. The following is a copy of a letter to the Speaker of the House of Representatives, Transmittal 20-0K with attached Policy Justification.

Dated: January 8, 2021.
Aaron T. Siegel,
Alternate OSD Federal Register Liaison Officer, Department of Defense.

BILLING CODE 5001-06-P

BILLING CODE 5001-06-C

Transmittal No. 20-0K

REPORT OF ENHANCEMENT OR UPGRADE OF SENSITIVITY OF TECHNOLOGY OR CAPABILITY (SEC. 36(B)(5)(C), AECA)

(i) Prospective Purchaser: Government of Egypt

(ii) Sec. 36(b)(1), AECA Transmittal No.: 15-25

Date: July 7, 2015

Military Department: Air Force

(iii) Description: On July 7, 2015, Congress was notified by Congressional certification transmittal number 15-25 of the possible sale under Section 36(b)(l) of the Arms Export Control Act of procurement and construction of one (1) commercial off-the-shelf border security mobile surveillance sensor security system that will include the following sub-systems: mobile surveillance sensor towers, mobile command and control (C2) systems, a regional C2 system, voice/data communications equipment, spare parts, support equipment, personnel training, training equipment, publications and technical documentation, U.S. Government and contractor technical and logistics support services, and other related elements of logistics and program support. The estimated total cost was $100 million. This total was all non-MDE since no Major Defense Equipment (MDE) was purchased.

This transmittal reports the inclusion of the procurement and construction of twenty-three (23) commercial off-the-shelf border security mobile surveillance sensor security (MS3) systems, thirty-six (36) integrated fixed towers, and mobile field workshops and the following sub-systems: mobile and fixed surveillance sensor towers, mobile command and fixed control (C2) systems, a regional C2 system, voice/data communications equipment, spare parts, support equipment, personnel training, training equipment, publications and technical documentation, U.S. Government and contractor technical and logistics support services, and other related elements of logistics and program support. There are no MDE items being added. These additional items of non-MDE will result in an increase in non-MDE cost of $125 million. The MDE cost will remain $0. The total case value will increase to $225 million.

(iv) Significance: This notification is being provided to report the inclusion of additional border surveillance systems to complete Egypt's western land border and extend the coverage to Egypt's southern land border were not included in the original notification. Their inclusion represents an increase in capability over what was previously notified. The purpose of the additional border surveillance system is to detect border incursions and communicate information for leadership to determine best methods of interdiction in areas outside of fixed land-based Points of Entry. Further employment of the MS3 capability along the southern border provides sensor depth and network integration to allow for response times to mitigate risks to its forces and population.

(v) Justification: This proposed sale will support the foreign policy and national security of the United States by helping to improve the security of a Major Non-NATO Ally country that continues to be an important strategic partner in the Middle East.

(vi) Date Report Delivered to Congress: December 28, 2020

[FR Doc. 2021-00621 Filed 1-13-21; 8:45 am]

BILLING CODE 5001-06-P